DEPARTMENT OF HEALTH AND HUMAN SERVICES

Office of the Secretary

[Document Identifier HHS-OS-17883-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before December 17, 2012.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-17883-30D for reference.

Information Collection Request Title: Teen Pregnancy Prevention Replication Evaluation Study: Follow-up Data Collection.

Abstract: The Office of Adolescent Health (OAH), Office of the Assistant Secretary for Health (OASH), Office of the Secretary (OS), U.S. Department of Health and Human Services (HHS), is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention evaluation activities.

OAH will jointly oversee with ASPE the Teen Pregnancy Prevention Replication Evaluation Study (TPP Replication Study). The TPP Replication Study will be a random assignment evaluation which will determine the extent to which evidence-based program models that have been shown to be effective in an earlier trial, demonstrate effects on adolescent sexual risk behavior and teenage pregnancy when they are replicated with different populations.

OAH and ASPE are proposing follow-up data collection activity as part of the TPP Replication Evaluation. Specifically, there will be two follow-up data collection points: (1) Short-term follow-up data collection 6 to 12 months post-baseline; and (2) longer-term follow-up data collection 18-24 months post-baseline. Respondents will be asked to answer carefully selected questions about risk and protective factors related to teen pregnancy, intermediate outcomes, and behavioral outcomes.

The survey data will be collected through private, self-administered questionnaires completed by study participants, i.e. adolescents assigned to a select school or community teen pregnancy prevention program or a control group. Surveys will be distributed and collected by trained professional staff.

Need and Proposed Use of the Information: Information from this data collection will be used to perform meaningful analysis to determine significant program effects. The findings from this evaluation will be of interest to the general public, to policy-makers, and to organizations interested in teen pregnancy prevention.

Likely Respondents: Adolescents, either assigned to teen pregnancy preview programs or part of a control group.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Type of respondents | Number of respondents | Number of responses per respondent | Average burden per response (in hours) | Total burden hours
Safer Sex Intervention | Sexually active youth | 1,900 | 2 | 0.5 | 1,900
Reducing the Risk | Sexually active youth | 1,900 | 2 | 0.5 | 1,900
Reducing the Risk | Sexually inexperienced youth | 1,900 | 2 | 0.5 | 1,900
Total |  | 5,700 |  |  | 5,700

Keith A. Tucker,
Information Collection Clearance Officer.

[FR Doc. 2012-27770 Filed 11-14-12; 8:45 am]

BILLING CODE 4168-11-P